DEPARTMENT OF AGRICULTURE

Agricultural Marketing Service

7 CFR Part 1219

[Docket Nos. FV-01-705 EXT and FV-01-706 EXT]

Subpart A—Hass Avocado Promotion, Research, and Information Order and Subpart B—Referendum Procedures; Extension of Comment Periods

AGENCY: Agricultural Marketing Service, USDA.

ACTION: Extension of the comment periods.

SUMMARY: Notice is hereby given that the 45-day comment periods on the proposed Hass Avocado Promotion, Research, and Information Order and referendum procedures for the program are being extended for an additional 15 days.

DATES: Comments must be received by September 12, 2001.

ADDRESSES: Interested persons are invited to submit written comments concerning this proposed rule to the Docket Clerk, Research and Promotion Branch, Fruit and Vegetable Programs, Agricultural Marketing Service, USDA, Stop 0244, Room 2535 South Building, 1400 Independence Avenue, SW., Washington, DC 20250-0244. Comments should be submitted in triplicate and will be made available for public inspection at the above address during regular business hours. Comments may also be submitted electronically to: malinda.farmer@usda.gov. All comments should reference the docket number and the date and page number of this issue of the Federal Register. A copy of this rule may be found at: www.ams.usda.gov/fv/rpdocketlist.htm. Pursuant to the Paperwork Reduction Act (PRA), send comments regarding the accuracy of the burden estimate, ways to minimize the burden, including the use of automated collection techniques or other forms of information technology, or any other aspect of this collection of information to the above address. Comments concerning the information collection under the PRA should also be sent to the Desk Officer for Agriculture, Office of Information and Regulatory Affairs, Office of Management and Budget, Washington, DC 20503.

FOR FURTHER INFORMATION CONTACT: Julie A. Morin, Research and Promotion Branch, Fruit and Vegetable Programs, AMS, USDA, Stop 0244, 1400 Independence Avenue, SW., Room 2535 South Building, Washington, DC 20250-0244; telephone (202) 720-9915 or fax (202) 205-2800.

SUPPLEMENTARY INFORMATION: On July 13, 2001, a proposed rule containing proposals for the Hass Avocado Promotion, Research, and Information Order (Order) (66 FR 36870) and a proposed rule containing referendum procedures for the program (66 FR 36886) were published in the Federal Register.

Under the proposed Order, producers and importers would pay an assessment to the proposed Hass Avocado Board (Board). Assessments collected under the program, at the initial rate of 2.5 cents a pound, are expected to generate $10 million annually. The Board would use the assessments collected to conduct a promotion, research, and information program to maintain, develop, and expand markets for Hass avocados in the United States. The proposed referendum procedures would be used for a referendum to determine whether producers and importers favor implementation of the Order. The comment periods on both proposed rules end on August 27, 2001.

Requests that additional time be provided for interested persons to comment were received from Ambassador James Bolger of New Zealand on August 3, 2001; Ambassador Andres Bianchi of Chile on August 8, 2001; Senators Joseph R. Biden, Jr., and Thomas R. Carper and Congressman Michael N. Castle on August 8, 2001; Senator Richard G. Lugar on August 15, 2001, and Congressmen Rob Andrews and Robert Menendez on August 15, 2001. The New Zealand Ambassador requested the extension due to the complexity of the rule. The other parties requested the extension due to the complexity of the rule and the recent Supreme Court decision on the mushroom program (United States et al. v. United Foods, Inc.; 533 U.S.___(2001); 69 U.S.L.W. 4543, June 25, 2001).

After reviewing the situation, the Department is extending the comment periods for 15 additional days. This will provide interested persons a total of 60 days to review the proposed rules, perform a more complete analysis, and submit any written comments.

This delay should not substantially add to the time required to complete this rulemaking action. Accordingly, comments will be accepted until September 12, 2001. This notice is issued under the Hass Avocado Promotion, Research, and Consumer Information Act, (7 U.S.C. 7801-7813), enacted on October 23, 2000.

Dated: August 23, 2001.
Robert C. Keeney,
Acting Administrator, Agricultural Marketing Service.

[FR Doc. 01-21742 Filed 8-24-01; 9:36 am]

BILLING CODE 3410-02-P